FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 28, 2010.

A. Federal Reserve Bank of Atlanta (Clifford Stanford, Vice President) 1000 Peachtree Street, NE., Atlanta, Georgia 30309:

1. Stuart and Teresa Gibson, both of Canton, Georgia; to acquire control of First Cherokee Bancshares, Inc., and thereby indirectly acquire control of First Cherokee State Bank, both of Woodstock, Georgia.

B. Federal Reserve Bank of Minneapolis (Jacqueline G. King, Community Affairs Officer) 90 Hennepin Avenue, Minneapolis, Minnesota 55480-0291:

1. Robert A. Engen and Beverly J. Engen, both of Tolna, North Dakota, individually and as part of a group acting in concert with Steven R. Engen, Bismarck, North Dakota; to retain and acquire control of Tolna Bancorp, Inc., and thereby indirectly retain and acquire control of The Farmers & Merchants State Bank of Tolna, both of Tolna, North Dakota.

Board of Governors of the Federal Reserve System, October 8, 2010.
Robert deV. Frierson,
Deputy Secretary of the Board.

[FR Doc. 2010-25857 Filed 10-13-10; 8:45 am]

BILLING CODE 6210-01-P